DEPARTMENT OF HOMELAND SECURITY

Federal Emergency Management Agency

[Docket ID: FEMA-2025-0114; OMB No. 1660-0024]

Agency Information Collection Activities: Proposed Collection, Comment Request; Federal Assistance for Offsite Radiological Emergency Preparedness and Planning

AGENCY: Federal Emergency Management Agency, Department of Homeland Security.

ACTION: 60-Day notice of extension and request for comments.

SUMMARY: The Federal Emergency Management Agency (FEMA), as part of its continuing effort to reduce paperwork and respondent burden, invites the general public to take this opportunity to comment on an extension of a currently approved information collection. In accordance with the requirements of the Paperwork Reduction Act of 1995, this notice seeks comments concerning all information collections related to FEMA Radiological Emergency Preparedness Program requirements.

DATES: Comments must be submitted on or before October 20, 2025.

ADDRESSES: To avoid duplicate submissions to the docket, please submit comments at http://www.regulations.gov under Docket ID FEMA-2025-0114. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Renae Connell, Emergency Management Specialist, FEMA/National Preparedness Division (NPD)/Technological Hazards Division (THD), 202.657.2294 and renae.connell@fema.dhs.gov . You may contact the Information Management Division for copies of the proposed collection of information at email address: FEMA-Information-Collections-Management@fema.dhs.gov.

SUPPLEMENTARY INFORMATION: Overview: Federal Emergency Management Agency (FEMA) runs the Radiological Emergency Preparedness (REP) Program. This program helps state, tribal, and local governments plan, train, and prepare for emergencies involving commercial nuclear power facilities. It ensures that these governments can respond to and recover from such incidents. Legal Background: Section 109 of the NRC Authorization Act of 1980 (Pub. L. 96-295) requires the Nuclear Regulatory Commission (NRC) to include emergency preparedness as a condition for licensing nuclear power plants. This means that before a plant can operate, there must be an emergency response plan that meets FEMA and NRC standards. If there is no state or local plan, an alternative plan must provide reasonable assurance that public health and safety are protected. Regulations: The NRC has set regulations in 10 CFR part 50, which include 16 planning standards for emergency plans. FEMA has similar standards in 44 CFR part 350. FEMA reviews offsite emergency plans and preparedness in communities around commercial nuclear power facilities. States must conduct joint exercises involving local governments, the state, and the NRC licensee to ensure these plans are effective (see 44 CFR part 350.9). Reasonable Assurance: FEMA defines “reasonable assurance” as having adequate plans and preparedness to protect public health and safety in the event of an incident at a commercial nuclear power facility. This includes having the right procedures, trained personnel, facilities, equipment, and regular drills and exercises. FEMA works with other Federal agencies, State, Tribal, and local governments, and industry stakeholders to make this determination. Voluntary Participation: While participation in offsite radiological emergency planning is voluntary, those who choose to participate must follow the program requirements in 44 CFR part 350 and the joint NRC/FEMA document NUREG-0654/FEMA-REP-1, Rev. 2, “Criteria for Preparation and Evaluation of Radiological Emergency Response Plans and Preparedness in Support of Nuclear Power Plants,” and the REP Program Manual (RPM) provides detailed guidance on these requirements.

Collection of Information

Title: Federal Assistance for Offsite Radiological Emergency Preparedness and Planning.

Type of Information Collection: Extension, without change, of a currently approved information collection.

OMB Number: 1660-0024.

FEMA Forms: There are no forms for this collection; rather the regulatory text details the content in which information is transmitted to FEMA.

Abstract: The intent of this request is to collect comments on the extension, without change, of a currently approved information collection under an OMB control number. This control number represents all information collections related to FEMA REP Program requirements described in 44 CFR parts 350 and 352.

Affected Public: State, Local or Tribal Government.

Estimated Number of Respondents: 104.

Estimated Number of Responses: 104.

Estimated Total Annual Burden Hours: 3,400.

Estimated Total Annual Respondent Cost: $258,706.

Estimated Respondents' Operation and Maintenance Costs: $0.

Estimated Respondents' Capital and Start-Up Costs: $0.

Estimated Total Annual Cost to the Federal Government: $736,064.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Russell R. Bard,
Acting Senior Director for Information Management, Office of the Chief Administrative Officer, Mission Support, Federal Emergency Management Agency, Department of Homeland Security.

[FR Doc. 2025-16016 Filed 8-20-25; 8:45 am]

BILLING CODE 9111-21-P